DEPARTMENT OF ENERGY

Federal Energy Regulatory Commission

[Project Nos. 1250-020, 14836-000]

City of Pasadena, California; Notice of Applications Accepted for Filing, Soliciting Motions To Intervene and Protests, Ready for Environmental Analysis, and Soliciting Comments, Recommendations, and Terms and Conditions

Take notice that the following hydroelectric application has been filed with the Commission and is available for public inspection.

a. Type of Applications: Surrender of License and application for (conduit) Exemption from Licensing.

b. Project Nos.: 1250-020, 14836-000.

c. Date Filed: December 29, 2016.

d. Applicant: City of Pasadena, California.

e. Name of Project: Azusa Project.

f. Location: The project is located on the Azusa Conduit in Los Angeles County, California. The licensed project occupies U.S. lands administered by the U.S. Forest Service.

g. Filed Pursuant to: Federal Power Act, 16 U.S.C. 791 (a)-825(r).

h. Applicant Contact: Arturo Silva, Interim Assistant General Manager—Power Supply, City of Pasadena Water and Power Development, 85 East State Street, Pasadena, California 91101-3418, telephone: (626) 744-4568.

i. FERC Contact: Robert Bell, telephone (202) 502-6062 or email: robert.bell@ferc.gov.

j. Deadline for filing comments, motions to intervene, and protests: 60 days from the issuance date of this notice by the Commission; reply comments are due 105 days from the issuance date of this notice by the Commission. The Commission strongly encourages electronic filing. Please file any motion to intervene, protest, comments, and/or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket numbers P-1250-020, and P-14836-000.

k. Description of request: In the application filed on December 29, 2016, the City of Pasadena requests that the Commission issue an order granting the Azusa Project an exemption from the licensing requirements of Part I of the Federal Power Act. The City of Pasadena also requests administrative surrender of its license for the Azusa Project facilities excluded under FERC's definition of a small conduit hydroelectric facility.

a. Licensed Facilities: The applicant requests a conduit exemption for the Azusa Hydroelectric Project No. 1250. The applicant proposes to remove the following project facilities from the Commission's jurisdiction: (1) The forebay; (2) the 24.4-kV generator leads, a 2.3/12-kV transformer, and a short transmission line; (3) an afterbay. The aforementioned facilities would remain operational as part of the water supply facilities operated by the San Gabriel River Water Committee.

b. Conduit Exemption: The applicant proposes a conduit exemption for the Azusa Project No. 14836. The proposed project would be located on its water supply system and would consist of: (1) An existing 797-foot-long, 38-inch diameter welded steel penstock; (2) an existing powerhouse containing one generating unit having an installed capacity of 3 megawatts; (3) an existing 148-foot-long, 136-inch-wide underground tailrace; and (4) appurtenant facilities. The City of Pasadena, estimates the project would have an average annual generation of 2,890 megawatt-hours that would be sold to a local utility.

l. Locations of the Application: This filing may be viewed on the Commission's website at http://www.ferc.gov/docs-filing/elibrary.asp. Enter the docket number P-1250, or P-14836 in the docket number field to access the documents. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above and at the Commission's Public Reference Room, located at 888 First Street NE, Room 2A, Washington, DC 20426, or by calling (202) 502-8371.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: July 2, 2018.
Kimberly D. Bose,
Secretary.

[FR Doc. 2018-14776 Filed 7-10-18; 8:45 am]

BILLING CODE 6717-01-P